LEGAL SERVICES CORPORATION

Sunshine Act Meeting; Notice

TIME AND DATE: The Legal Services Corporation Board of Directors' Operations and Regulations Committee (“Committee”) will meet telephonically on August 17, 2010. The meeting will begin at 11 a.m., Eastern Time and continue until conclusion of the Committee's agenda.

LOCATION: Legal Services Corporation, 3333 K Street, NW., Washington, DC 20007.

STATUS OF MEETING: Open, except that a portion of the meeting may be closed to the public pursuant to a vote of the Board of Directors authorizing the Committee to consider and perhaps act on an employee benefits matter.

This closure will be authorized by the relevant provisions of the government in the Sunshine Act [5 U.S.C. 552b(c)(2)] and LSC's implementing regulation 45 CFR 1622.5(a).¹

¹ 45 CFR 1622.5(a)—Relate solely to the internal personnel rules and practices of the Corporation.

A verbatim written transcript will be made of the closed session of the Board meeting. However, the transcript of any portions of the closed session falling within the relevant provisions of the government in the Sunshine Act [5 U.S.C. 552b(c)(4) and (6)] and LSC's implementing regulation 45 CFR 1622.5(c) and (e), will not be available for public inspection. A copy of the General Counsel's Certification that in his opinion the closing is authorized by law will be available upon request.

MATTERS TO BE CONSIDERED:

Open Session

1. Approval of agenda.

2. Approval of minutes of the Committee's Open Session meeting of July 30, 2010.

3. Consider and act on potential initiation of rulemaking to amend 45 CFR Part 1622 to remove from its requirements the Board's Search and Development Committees and the Board's Governance & Performance Review Committee when it is meeting to consider performance evaluations of the President and the Inspector General:

• Presentation by Mattie Cohan, Senior Assistant General Counsel;

• Comment by Laurie Tarantowicz, Assistant Inspector General and Legal Counsel;

• Public Comment.

4. Public comment.

5. Consider and act on other business.

Closed Session

6. Approval of minutes of the Committee's Closed Session meeting of July 31, 2010.

7. Consider and act on an employee benefits matter.

8. Consider and act on adjournment of meeting.

CONTACT PERSON FOR INFORMATION: Katherine Ward, Executive Assistant to the Vice President for Legal Affairs & General Counsel, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward at (202) 295-1500 or FR_NOTICE_QUESTIONS@lsc.gov.

Dated: August 6, 2010.
Patricia D. Batie,
Corporate Secretary.

[FR Doc. 2010-19884 Filed 8-9-10; 11:15 am]

BILLING CODE 7050-01-P